DEPARTMENT OF ENERGY

Federal Energy Regulatory Commission

Sunshine Act Meeting

MAY 8, 2002.

The following notice of meeting is published pursuant to section 3(a) of the Government in the Sunshine Act (Pub. L. No. 94-409), 5 U.S.C 552B:

AGENCY HOLDING MEETING: Federal Energy Regulatory Commission.

DATE AND TIME: May 15, 2002, 10:00 A.M.

PLACE: Room 2C, 888 First Street, NE., Washington, DC 20426.

STATUS: Open.

MATTERS TO BE CONSIDERED: Agenda, * Note—Items listed on the agenda may be deleted without further notice.

CONTACT PERSON FOR MORE INFORMATION: Magalie R. Salas, secretary, telephone (202) 208-0400, for a recording listing items stricken from or added to the meeting, call (202) 208-1627.

This is a list of matters to be considered by the commission. It does not include a listing of all papers relevant to the items on the agenda; however, all public documents may be examined in the reference and information center.

791ST—Meeting May 15, 2002, regular meeting, 10:00 A.M.

Administrative Agenda

A-1.

Docket# AD02-1, 000, Agency Administrative Matters

A-2.

Docket# AD02-7, 000, Customer Matters, Reliability, Security and Market Operations

Markets, Tariffs and Rates—Electric

E-1.

Docket# ER02-1330, 000, Pacific Gas and Electric Company

E-2.

Docket# ER02-1401, 000, Allegheny Power

Other#s

ER02-1440, 000, PJM Interconnection, L.L.C.

ER02-1441, 000, PJM Interconnection, L.L.C.

E-3.

Docket# ER02-1387, 000, Entergy Louisiana, Inc.

E-4.

Docket# ER02-1400, 000, Illinois Power Company

E-5.

Docket# EL00-62, 010, NSTAR Services Company v. New England Power Pool

Other#s EL00-102, 000, Northeast Utilities Service Company and Select Energy, Inc. v. ISO New England Inc.

EL00-109, 000, Alternate Power Source, Inc. v. ISO New England Inc.

EL00-109, 001, Alternate Power Source, Inc. v. ISO New England Inc.

ER00-2052, 008, NSTAR Services Company v. New England Power Pool

E-6.

Docket# ER02-211, 000, Vermont Yankee Nuclear Power Corporation

Other#s EL02-53, 000, Vermont Yankee Nuclear Power Corporation and Entergy Nuclear Vermont Yankee, LLC

E-7.

Docket# EL00-95, 058, San Diego Gas & Electric Company v. Sellers of Energy and Ancillary Services Into Markets Operated by the California Independent System Operator and the California Power Exchange

Other#s EL00-97, 003, Reliant Energy Power Generation, Inc., Dynegy Power Marketing, Inc. and Southern Energy California, L.L.C. v. California Independent System Operator Corporation

EL00-98, 050, Investigation of Practices of the California Independent System Operator and the California Power Exchange EL00-104 008 California Electricity Oversight Board v. All Sellers of Energy and Ancillary Services Into the Energy and Ancillary Services Markets Operated by the California Independent System Operator and the California Power Exchange

EL00-107, 009, Public Meeting in San Diego, California

EL01-1, 009, California Municipal Utilities Association v. All Jurisdictional Sellers of Energy and Ancillary Services Into Markets Operated by the California Independent System Operator and the California Power Exchange

EL01-2, 003, CAlifornians for Renewable Energy, Inc. v. Independent Energy Products, Inc. and All Sellers of Energy and Ancillary Services Into Markets Operated by the California Independent System Operator and the California Power Exchange, All Scheduling Coordinators Acting on Behalf of the Above Sellers, California Independent System Operator Corporation and California Power Exchange Corporation EL01-68 011 Investigation of Wholesale Rates of Public Utility Sellers of Energy and Ancillary Services in the Western Systems Coordinating Council

E-8. Docket# ER01-3000, 003, International Transmission Company

Other#s RT01-101, 003, International Transmission Company

RT01-101, 004, International Transmission Company

EC01-146, 003, International Transmission Company and DTE Energy Company

EC01-146, 004, International Transmission Company and DTE Energy Company

ER01-3000, 004, International Transmission Company

E-9.

Docket# ER00-2413, 002, American Electric Power Service Corporation

Other#s ER00-2413, 003, American Electric Power Service Corporation

ER00-2413 005 American Electric Power Service Corporation

E-10.

Omitted

E-11.

Omitted

E-12.

Docket# EL01-122, 001, PJM Interconnection, L.L.C.

E-13.

Docket# TX98-2, 000, Public Service Company of Colorado

E-14.

Docket# ER02-782, 001, Florida Power & Light Company

Other#s ER02-782, 002, Florida Power & Light Company

E-15.

Docket# EG02-99, 001, Garnet Energy LLC

E-16.

Docket# ER02-508, 001, Tampa Electric Company

Other#s ER02-551, 001, Tampa Electric Company

E-17.

Docket# ER01-3142, 006, Midwest Independent Transmission System Operator, Inc.

E-18.

Docket# ER02-851, 002, Southern Company Services, Inc.

Other#s ER02-851, 003, Southern Company Services, Inc.

E-19.

Docket# TX96-2, 003, City of College Station, Texas

E-20.

Docket# ER99-1770, 001, California Independent System Operator Corporation

E-21.

Docket# EL00-95, 031, San Diego Gas & Electric Company v. Sellers of Energy and Ancillary Services Into Markets Operated by the California Independent System Operator and the California Power Exchange

Other#s EL00-98, 030, Investigation of Practices of the California Independent System Operator Corporation and the California Power Exchange

EL00-98, 033, Investigation of Practices of the California Independent System Operator Corporation and the California Power Exchange

EL01-68, 000, Investigation of Wholesale Rates of Public Utility Sellers of Energy and Ancillary Services in the Western Systems Coordinating Council

E-21. (Continued)

EL01-68, 001, Investigation of Wholesale Rates of Public Utility Sellers of Energy and Ancillary Services in the Western Systems Coordinating Council

RT01-85, 000, California Independent System Operator Corporation

RT01-85, 001, California Independent System Operator Corporation

E-22.

Omitted

E-23.

Docket# EL00-95, 053, San Diego Gas & Electric Company v. Sellers of Energy and Ancillary Service Into Markets Operated by the California Independent System Operator Corporation and the California Power Exchange Corporation

Other#s EL00-95, 045, San Diego Gas & Electric Company v. Sellers of Energy and Ancillary Service into Markets Operated by the California Independent System Operator Corporation and the California Power Exchange Corporation

EL00-97, 002, Reliant Energy Power Generation, Inc., Dynegy Power Marketing, Inc. and Southern Energy California, L.L.C. v. California Independent System Operator Corporation

EL00-98, 042, Investigation of Practices of the California Independent System Operator Corporation and the California Power Exchange

EL00-98, 047, Investigation of Practices of the California Independent System Operator Corporation and the California Power Exchange

EL00-104, 007, California Electricity Oversight Board v. All Sellers of Energy and Ancillary Services Into the Energy and Ancillary Services Markets Operated by the California Independent System Operator Corporation and the California Power Exchange

EL00-107, 008, Public Meeting in San Diego, California

ER00-3461, 003, California Power Exchange Corporation

ER00-3673, 002, California Independent System Operator Corporation

E-23. (Continued)

EL01-1, 008, California Municipal Utilities Association v. All Jurisdictional Sellers of Energy and Ancillary Services Into Markets Operated by the California Independent System Operator and the California Power Exchange

EL01-2, 002, CAlifornians for Renewable Energy, Inc. v. Independent Energy Producers, Inc. and All Sellers of Energy and Ancillary Services Into Markets Operated by the California Independent System Operator and the California Power Exchange, All Scheduling Coordinators Acting on Behalf of the Above Sellers, California Independent System Operator Corporation and California Power Exchange Corporation

EL01-10, 003, Puget Sound Energy, Inc. v. All Jurisdictional Sellers of Energy and/or Capacity at Wholesale Into Electric Energy and/or Capacity Markets in the Pacific Northwest, Including Parties to the Western Systems Power Pool Agreement

EL01-34, 002, Southern California Edison Company and Pacific Gas and Electric Company

EL01-68, 009, Investigation of Wholesale Rates of Public Utility Sellers of Energy and Ancillary Services in the Western Systems Coordinating Council

RT01-85, 007, California Independent System Operator Corporation

ER01-607, 002, California Independent System Operator Corporation

ER01-1444, 003, Arizona Public Service Company

ER01-1445, 003, Automated Power Exchange, Inc.

ER01-1446, 005, Avista Energy, Inc.

ER01-1447, 003, California Power Exchange Corporation

ER01-1448, 005, Duke Energy Trading and Marketing, LLC

ER01-1449, 006, Dynegy Power Marketing, Inc.

ER01-1450, 003, Nevada Power Company

ER01-1451, 006, Portland General Electric Company

ER01-1452, 003, Public Service Company of Colorado

ER01-1453, 007, Reliant Energy Services, Inc.

ER01-1454, 003, Sempra Energy Trading Corporation

ER01-1455, 009, Mirant California, LLC, Mirant Delta LLC and Mirant Potrero, LLC

ER01-1456, 010, Williams Energy Services Corporation

ER01-1579, 003, California Independent System Operator Corporation

E-24. Docket# EL01-68, 010, Investigation of Wholesale Rates of Public Utility Sellers of Energy and Ancillary Services in the Western Systems Coordinating Council

E-25.

Docket# EL00-95, 056, San Diego Gas & Electric Company v. Sellers of Energy and Ancillary Service Into Markets Operated by the California Independent System Operator Corporation and the California Power xchange Corporation

Other#s EL00-98, 049, Investigation of Practices of the California Independent System Operator Corporation and the California Power Exchange

E-26.

Docket# RM01-12, 000, Electricity Market Design and Structure

E-27.

Docket# RM02-9, 000, Electronic Filing of FERC Form No. 1 and Elimination of Certain Designated Schedules in FERC Form Nos. 1 and 1-F

E-28.

Docket# EL02-70, 000, The United Illuminating Company v. ISO New England Inc.

Other#s EL02-61, 000, PG&E National Energy Group, PG&E Generating, USGen New England Inc. and PG&E Energy Trading-Power, L.P. v. ISO New England Inc.

E-29.

Docket# EL00-35, 000, Platte-Clay Electric Cooperative, Inc.

E-30.

Docket# EL01-103, 000, USGen New England, Inc

E-31.

Docket# EL98-66, 000, East Texas Electric Cooperative, Inc. v. Central and South West Services, Inc., Central Power and Light Company, West Texas Utilities Company, Public Service Company of Oklahoma and Southwestern Electric Power Company

E-32.

Docket# EL01-106, 000, Old Dominion Electric Cooperative v. PJM Interconnection, L.L.C.

Other#s ER02-1333, 000, PJM Interconnection, L.L.C.

E-33.

Docket# EL02-8, 000, Mirant Americas Energy Marketing, L.P., Mirant Bowline, LLC, Mirant Lovett, LLC and Mirant NY Gen, LLC v. New York Independent System Operator, Inc.

E-34.

Docket# EL02-58, 000, Public Service Company of New Mexico v. Arizona Public Service Company

E-35.

Omitted

E-36.

Docket# EL01-109, 000, Midwest Generation, LLC v. Commonwealth Edison Company

E-37.

Docket# EL02-71, 000, State of California, ex rel. Bill Lockyer, Attorney General of the State of California v. British Columbia Power Exchange Corporation, Coral Power, LLC, Dynegy Power Marketing, Inc., Enron Power Marketing, Inc., Mirant Americas Energy Marketing, LP, Reliant Energy Services, Inc., Williams Energy Marketing & Trading Company, All Other Public Utility Sellers of Energy and Ancillary Services to the California Energy Resources Scheduling Division of the California Department of Water Resources, and All Other Public Utility Sellers of Energy and Ancillary Services Into Markets Operated by the California Power Exchange and California Independent System Operator Corporation

E-38.

Docket# EL02-12, 000, Sunbury Generation, LLC v. PPL Electric Utilities Corporation

E-39.

Docket# EL01-50, 000, KeySpan-Ravenswood, Inc. v. New York Independent System Operator, Inc.

E-40.

Docket# ER00-2413, 006, American Electric Power Service Corporation

Other#s ER00-3435, 003, Carolina Power & Light Company

ER01-247 004 Virginia Electric and Power Company

E-41.

Docket# ER00-3668, 001, Commonwealth Edison Company

Other#s ER00-3668, 000, Commonwealth Edison Company

ER00-3668 002 Commonwealth Edison Company

E-42.

Docket# ER01-3122, 000, Appalachian Power Company

Miscellaneous Agenda

M-1.

Reserved

Markets, Tariffs and Rates—Gas

G-1.

Docket# RP00-403, 000, Northern Border Pipeline Company

Other#s RP00-403, 001, Northern Border Pipeline Company

RP01-85, 000, Northern Border Pipeline Company

RP01-388, 000, Northern Border Pipeline Company

G-2.

Docket# RP00-320, 000, Chandeleur Pipe Line Company

Other#s RP01-111, 000, Chandeleur Pipe Line Company

G-3.

Docket# RP00-462, 000, Equitrans, L.P.

Other#s RP01-37, 001, Equitrans, L.P.

RP01-37 002 Equitrans, L.P.

G-4.

Docket# RP00-392, 000, Nautilus Pipeline Company, L.L.C.

Other#s RP00-576, 000, Nautilus Pipeline Company, L.L.C.

G-5.

Docket# GT01-25, 003, ANR Pipeline Company

Other#s RP99-301, 038, ANR Pipeline Company

G-6.

Omitted

G-7.

Docket# RP01-623, 003, Mississippi River Transmission Corporation

Other#s RP01-622, 002, Mississippi River Transmission Corporation

G-8.

Docket# RP02-129, 001, Southern LNG Inc. ,

Other#s RP02-129, 002, Southern LNG Inc.

G-9.

Omitted

G-10.

Docket# RM98-10, 010, Regulation of Short-Term Natural Gas Transportation Services, and Regulation of Interstate Natural Gas Transportation Services

G-11.

Docket# RP02-206, 000, Tenaska Marketing Ventures v. Northern Border Pipeline Company

G-12.

Docket# OR02-4, 000, Chevron Products Company v. SFPP, L.P.

G-13.

Docket# IS01-444, 004, Conoco Pipe Line Company

Other#s IS01-445, 004, Conoco Pipe Line Company

G-14.

Docket# RP00-318, 000, Enbridge Pipelines (KPC)(formerly, Kansas Pipeline Company)

Other#s RP01-6, 001, Enbridge Pipelines (KPC)(formerly, Kansas Pipeline Company)

G-15.

Docket# OR01-8, 000, ARCO, a subsidiary of BP America, Inc. v. Calnev Pipe Line, L.L.C.

Other#s OR01-8, 001, ARCO, a subsidiary of BP America, Inc. v. Calnev Pipe Line, L.L.C.

OR02-2, 000, Tosco Corporation v. Calnev Pipe Line, L.L.C.

OR02-3, 000, Ultramar Inc. v. Calnev Pipe Line, L.L.C.

G-16.

Docket# RP00-545, 000, WestGas InterState, Inc.

Other#s RP01-55, 001, WestGas InterState, Inc.

RP01-55, 002, WestGas InterState, Inc.

G-17.

Docket# PR02-10, 000, Enogex, Inc.

G-18.

Docket# RP00-387, 000, Florida Gas Transmission Company

Other#s RP00-583, 000, Florida Gas Transmission Company

RP00-583, 001, Florida Gas Transmission Company

G-19.

Docket# OR02-7, 001, Kinder Morgan Energy Partners, L.P.

Energy Projects—Hydro

H-1.

Docket# P-2436, 158, Consumers Energy Company

Other#s P-2447, 148, Consumers Energy Company

P-2448, 152, Consumers Energy Company

P-2449, 132, Consumers Energy Company

P-2450, 128, Consumers Energy Company

P-2451, 132, Consumers Energy Company

P-2452, 139, Consumers Energy Company

P-2453, 158, Consumers Energy Company

P-2468, 134, Consumers Energy Company

P-2580, 177, Consumers Energy Company

P-2599, 145, Consumers Energy Company

H-2.

Docket# P-2113, 146, Wisconsin Valley Improvement Company

H-3.

Omitted

H-4. ,

Omitted

H-5.

Docket# P-137, 036, Pacific Gas and Electric Company

Other#s P-619, 098, Pacific Gas and Electric Company and City of Santa Clara, California

H-6.

Docket# P-2899, 105, Idaho Power Company

Energy Projects—Ccertificates

C-1.

Docket# CP01-439, 000, Columbia Gas Transmission Corporation

C-2.

Docket# CP01-45, 002, Colorado Interstate Pipeline Company

C-3.

Docket# CP00-36, 004, Guardian Pipeline, L.L.C.

Other#s CP02-160, 000, ANR Pipeline Company

C-4.

Docket# CP01-311, 000, Kinder Morgan Interstate Gas Transmission LLC

C-5.

Docket# CP02-133, 000, Aquila Storage and Transportation, LP

Magalie R. Salas,
Secretary.

[FR Doc. 02-11984 Filed 5-9-02; 11:21 pm]

BILLING CODE 6717-01-P